NATIONAL AERONAUTICS AND SPACE ADMINISTRATION

[Notice 03-143]

NASA Advisory Council, Space Science Advisory Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC).

DATES: Monday, November 17, 2003, 8:30 a.m. to 5:30 p.m., Tuesday, November 18, 2003, 8:30 a.m. to 6 p.m., and Wednesday, November 19, 2003, 8:30 a.m. to 11 a.m.

ADDRESSES: National Aeronautics and Space Administration, Ames Research Center, NASA Ames Conference Center (NACC), Ball Room, 500 Severyns Avenue, Moffett Field, CA 94035.

FOR FURTHER INFORMATION CONTACT: Ms. Marian R. Norris, Code SB, National Aeronautics and Space Administration, Washington, DC 20546, (202)358-4452.

SUPPLEMENTARY INFORMATION: The meeting will be open to the public up to the capacity of the room. The agenda for the meeting includes the following topics:

—NASA presentation and Comments on HST Options

—SScAC Subcommittee Recommendations on HST Options

—Subcommittee Reports on Other Topics

—Briefing on the Status of NASA Sounding Rocket Programs

—Discussion on Selection of Future Space Science Mission Science Centers

—Status Report on the Jupiter Icy Moons Orbiter (JIMO) Science Definition Team

Interested persons wishing to comment in writing on Hubble Space Telescope (HST) servicing and end of life options may send their contributions by U.S. mail to the attention of Marc S. Allen, Code S, NASA Headquarters, Washington, DC 20546, or by e-mail to marc.allen@nasa.gov. Contributions received by November 13 will be distributed to Committee members. Brief comments from the public attending the meeting will be heard by the committee, subject to a total agenda time allocation for these comments of 30 minutes.

It is imperative that the meeting be held on these dates to accommodate the scheduling priorities of the key participants. Visitors to the meeting will be requested to sign a visitor's register.

June W. Edwards,
Advisory Committee Management Officer, National Aeronautics and Space Administration.

[FR Doc. 03-27876 Filed 11-4-03; 8:45 am]

BILLING CODE 7510-01-P